DEPARTMENT OF THE INTERIOR

National Park Service

Draft Environmental Impact Statement and General Management Plan; San Juan Island National Historical Park, San Juan County, WA; Notice of Availability

Summary: Pursuant to § 102(2)(C) of the National Environmental Policy Act of 1969 (Pub. L. 91-190, as amended), and the Council on Environmental Quality Regulations (40 CFR Part 1500-1508), the National Park Service, Department of the Interior, has prepared a draft environmental impact statement (DEIS) for the proposed General Management Plan (GMP) for San Juan Island National Historical Park located in San Juan County, Washington. This DEIS describes and analyzes three GMP alternatives that respond to both NPS planning requirements and to the public's concerns and issues, identified during the scoping and early public involvement process. Each alternative presents management strategies for resource protection and preservation, education and interpretation, visitor use and facilities, land protection and boundaries, and long-term operations and management of the park. The potential environmental consequences of all the alternatives, and mitigation strategies, are identified and analyzed in the DEIS. In addition to a baseline “no-action” alternative, an “environmentally preferred” alternative is identified.

Background: A Notice of Intent formally initiating the conservation planning and environmental impact analysis effort necessary for updating the general management plan was published in the Federal Register on February 5, 2003. The National Park Service (NPS) organized an interdisciplinary planning team consisting of staff at San Juan Island National Historical Park and the NPS Pacific West Regional Office in Seattle, Washington to identify preliminary issues to be addressed in updating the GMP. The last GMP was prepared in 1979. The official public scoping process began in March 2003 when the NPS produced and distributed an initial newsletter announcing the start of the planning process and soliciting feedback on issues to be addressed in the plan. The newsletter was mailed to the park's 216 person mailing list, and also posted on the park's website. In addition, 4,000 copies of the newsletter were inserted into The Journal of the San Juan Islands newspaper, which reaches approximately 3,000 island residents and approximately 1,000 residents off-island. An additional 2,500 copies were distributed to area libraries, civic buildings, business, churches, museums, universities, communities, dignitaries and elected officials.

Three public workshops were held in April 2003, with two in Friday Harbor, Washington, and one in Seattle, Washington. Presentations about the mission of the NPS and purpose and significance of San Juan Island national Historical Park were followed by small group work sessions that allowed people to present and discuss issues, experiences, and ideas for the park. Approximately thirty-nine people attended the San Juan Island workshops, and an additional four participated in the Seattle workshop. Eighteen written responses were also collected during the scoping period.

A second newsletter was produced in November 2003 summarizing the comments received, written and oral, during the scoping period. The comments covered a broad range of issues, concerns, personal experiences, and recommendations for the park. When compiled, over 224 different comments or ideas were represented. The comments can be broadly organized in the following topics: Resource preservation and management; visitor experience and services; park facilities, operations, management and maintenance, and park administration and planning. Though many new actions and ideas were suggested by the public during this comment period, no new issues were identified.

Proposed Plan and Alternatives: Alternative A constitutes the “baseline” No Action Alternative and assumes a continuation of existing management and trends at San Juan Island National Historical Park. The primary emphasis would continue to be placed on protection and preservation of cultural resources. Since 1966, the park has been listed in the National Register of Historic Places and is a National Historic Landmark. Management of cultural landscapes around the immediate encampment areas at American Camp and English Camp would continue to emphasize cultural landscape management while respecting the natural environment and natural processes. No new construction would be authorized.

Alternative B would increase visitor opportunities and outreach at both English Camp and American Camp, as well as in the town of Friday Harbor, through additional visitor facilities, recreational opportunities, programs, and services. Natural and cultural resources interpretation would be enhanced through more extensive facilities and programs. Off-island interpretation would be enhanced through partnerships. The park would propose boundary adjustments at both camps to include important natural and cultural resources related to the purpose of the park.

At English Camp, the road system would be reconfigured as a one-way loop road by connecting a road segment approximately one-fifth mile long from the entrance road to the administrative road. The road would follow the existing historic road alignment where possible. The Crook house would be rehabilitated as a visitor contact facility on the ground floor and for administrative use on the second floor.

At American Camp, the 1979 double-wide trailer that serves as the temporary visitor center at American Camp would be removed, the site restored to natural conditions, and a new enlarged visitor center would be constructed north of the redoubt. The new visitor center would include space for a collections study room for natural and cultural resource items, including a portion of the military-era collections. The existing road to the redoubt off Pickett's Lane would be removed and converted to a trail. The cultural landscapes would be enhanced to aid visitor understanding and interpretation through a variety of techniques. The prairie would be restored to native plant species.

Alternative C is the NPS Preferred Alternative and would broaden the scope of resource management and interpretation programs to emphasize the connections and interrelationships between the park's natural and cultural resources. New facilities, trails and programs would provide opportunities for visitors to understand the importance of the park's natural resources in defining the cultural landscapes and influencing the settlement and historic events of San Juan Island.

At English Camp, the Crook house would be retained, stabilized, and used as an exterior exhibit while the hospital would be rehabilitated and opened to the public for interpretation. The 1979 double-wide trailer that serves as the temporary visitor center at American Camp would be removed and replaced with a permanent, enlarged visitor center at the existing site, allowing for improved exhibits and staff space. A collections study room for natural and cultural resource items, including a portion of the military-era collections would be relocated to the park.

Additional buildings would be open to the public for interpretation as well as research and academic study. As in Alternative B, the existing road to the redoubt would be removed and converted to a trail and the prairie would be restored to native plant species. Historic buildings from the encampment period still existing on the island would be repatriated back to their original locations within the camps. Off-island interpretation would be enhanced through partnerships. The park would propose boundary adjustments at both camps to include important natural and cultural resources related to the purpose of the park. As documented in the DEIS, Alternative C is deemed to be the “environmentally preferred” alternative.

Public Review and Comment: The DEIS/GMP is now available for public review. All written comments must be postmarked or transmitted not later than 60 days from the date of publication in the Federal Register of the EPA's notice of filing of the EIS; as soon as this date is confirmed, it will be announced on the project website and via local and regional media. During the review period, several options are available for providing written comments: (1) Online via an electronic comment form provided on the NPS Planning, Environment and Public Comment System at http://parkplanning.nps.gov/sajh; (2) A postage-paid comment response form is included in the Draft General Management Plan Alternatives Newsletter; additional pages may be attached to this form as necessary; (3) Written letters can also be directly mailed to: Superintendent, San Juan Island National Historical Park, 650 Mullis Street, Suite 100, Friday Harbor, Washington 98250. In addition, comments may be made in person at one of the upcoming public workshops that the NPS will conduct in mid-February 2008. Confirmed details on dates, locations and times for these workshops will be announced in local newspapers, in the Draft General Management Plan Alternatives Newsletter, online at the above Web site, or may be obtained via telephone at (360) 378-2240. A limited number of printed copies of the Draft EIS/GMP can be obtained at the address noted above. In addition, the document is available for review at the public library in Friday Harbor, Washington.

Before including your address, phone number, e-mail address, or other personal identifying information in your comment, you should be aware that your entire comment—including your personal identifying information—may be made publicly available at any time. While you can ask us in your comment to withhold your personal identifying information from public review, we cannot guarantee that we will be able to do so.

Decision: Following the opportunity to review the DEIS/GMP, all comments received will be carefully considered in preparing the final document. This document is anticipated to be completed during the fall of 2008 and its availability will be similarly announced in the Federal Register and via local and regional press media. As a delegated EIS, the official responsible for the final decision is the Regional Director, Pacific West Region; subsequently the official responsible for implementation would be the Superintendent, San Juan Island National Historical Park.

Dated: October 12, 2007.
Cynthia Ip,
Acting Regional Director, Pacific West Region.

[FR Doc. 08-327 Filed 1-25-08; 8:45 am]

BILLING CODE 4310-MS-M